DEPARTMENT OF JUSTICE

Notice of Extension of Public Comment Period

On August 4, 2011, a proposed consent decree in United States, State of Missouri, and the Missouri Coalition for the Environment Foundation v. Metropolitan St. Louis Sewer District, No. 4:07-CV-01120, was lodged with the United States District Court for the Eastern District of Missouri. The proposed consent decree will resolve claims of the United States seeking civil penalties and injunctive relief for violations of the Clean Water Act, 33 U.S.C. 1251 et seq., in connection with the Metropolitan St. Louis Sewer District's operation of its sewer system in the City of St. Louis and St. Louis County, Missouri. On August 10, 2011, the Department of Justice published notice of the lodging of the proposed consent decree. 76 FR 49,505. That publication opened a 30-day period for the submission of comments relating to the proposed consent decree.

Notice is hereby given that the Department of Justice has extended that period for 30 days. Therefore, the Department of Justice will receive comments relating to the proposed consent decree through October 10, 2011. Comments should be addressed to the Assistant Attorney General, Environment and Natural Resources Division, and either e-mailed to pubcomment-ees.enrd@usdoj.gov or mailed to P.O. Box 7611, U.S. Department of Justice, Washington, DC 20044-7611. The comments should refer to United States, et al. v. Metropolitan St. Louis Sewer District, D.J. Ref. 90-5-1-1-08111.

During the public comment period, the proposed Consent Decree may be examined on the Department of Justice Web site, http://www.usdoj.gov/enrd/Consent_Decrees.html. A copy of the proposed consent decree may be obtained by mailing a request to the Consent Decree Library, P.O. Box 7611, U.S. Department of Justice, Washington, DC 20044-7611. When requesting a copy by mail, please enclose a check payable to the U.S. Treasury in the amount of $29.25 (25 cents per page reproduction cost). A copy may also be obtained by e-mailing or faxing a request to Tonia Fleetwood, tonia.fleetwood@usdoj.gov, fax number (202) 514-0097, phone confirmation number (202) 514-1547, and mailing a check for the reproduction cost to the Consent Decree Library.

Robert E. Maher, Jr.,
Assistant Section Chief, Environmental Enforcement Section, Environment and Natural Resources Division.

[FR Doc. 2011-22947 Filed 9-7-11; 8:45 am]

BILLING CODE 4410-15-P